ENVIRONMENTAL PROTECTION AGENCY

40 CFR Part 52

[SIP No. UT-001-0048, UT-001-0049; FRL-7472-4]

Approval and Promulgation of Air Quality Implementation Plans; Utah; SIP Renumbering

AGENCY: Environmental Protection Agency (EPA).

ACTION: Proposed rule.

SUMMARY: EPA is proposing to approve State Implementation Plan (SIP) revisions submitted by the Governor of Utah on June 27, 1994 and April 28, 2000. EPA is also proposing to approve Supplemental Administrative Documentation submitted on December 31, 2002. The June 27, 1994 submittal revises the numbering and format of Utah's State Implementation Plan (SIP). The April 28, 2000 submittal contains non-substantive changes to correct minor errors in the June 27, 1994 submittal. The December 31, 2002 submittal also contains non-substantive changes to the June 27, 1994 submittal. The intended effect of this action is to make these provisions federally enforceable. In addition, we will be acting on parts of these submittals at a later date. This action is being taken under section 110 of the Clean Air Act.

DATES: Written comments must be received on or before April 24, 2003.

ADDRESSES: Written comments may be mailed to Richard R. Long, Director, Air and Radiation Program, Mailcode 8P-AR, Environmental Protection Agency (EPA), Region 8, 999 18th Street, Suite 300, Denver, Colorado 80202. Copies of the documents relevant to this action are available for public inspection during normal business hours at the Air and Radiation Program, Environmental Protection Agency, Region 8, 999 18th Street, Suite 300, Denver, Colorado 80202. Copies of the State documents relevant to this action are available for public inspection at the Utah Department of Environmental Quality, Division of Air Quality, 150 North 1950 West, Salt Lake City, Utah 84114.

FOR FURTHER INFORMATION CONTACT: Laurel Dygowski, EPA, Region 8, (303) 312-6144.

SUPPLEMENTARY INFORMATION: Throughout this document wherever “we” or “our” is used means EPA.

I. Evaluation of State's June 27, 1994, April 28, 2000 and December 31, 2002 Submittals

In this document we are proposing to approve two SIP revisions submitted by the Governor of Utah on June 27, 1994 and April 28, 2000. Also, we are proposing to approve Supplemental Administrative Documentation submitted by the State on December 31, 2002. The June 27, 1994 submittal revises the numbering and format of Utah's SIP. The renumbering of the Utah SIP allows for a consistent numbering system. The April 28, 2000 and December 31, 2002 submittals contain non-substantive changes to correct minor errors in the June 27, 1994 submittal. In addition, on October 3, 2002, the State submitted a letter from Richard W. Sprott, Director, Division of Air Quality, correcting other non-substantive changes to the June 27, 1994 submittal. The October 3, 2002 letter was submitted to address typographical errors and missing pages in the January 27, 1994 submittal.

In this notice, we are putting sections of the SIP into categories based on the action we are taking on that section of the SIP. The first category contains sections that have been renumbered and contain no substantive changes to the text of the section. We are proposing to approve these sections into the SIP. The second category includes sections of the SIP that have been renumbered and that we are proposing to take no action on because they have never been approved into the SIP or they have been superceded by later submittals that have been approved into the SIP. The third category consists of sections on which we propose to take action on in a separate notice.

A. Category 1

Based on the June 27, 1994, April 28, 2000 and December 31, 2002 submittals, we are proposing to approve the following sections of the Utah SIP because they have only been renumbered and contain no substantive changes to the text of the rule. We are proposing that the following renumbered SIP sections replace the prior numbered SIP sections in the federally approved SIP along with any nonsubstantive changes: Section I—Legal Authority; Section II—Review of New and Modified Air Pollution Sources; Section III—Source Surveillance; Section IV; Section V—Resources; Section VI—Intergovernmental Relations; Section VII—Prevention of Air Pollution Emergency Episodes; Section VIII—Prevention of Significant Deterioration; Section IX—Control Measures for Area and Point Sources (except for Part A, Part D and Part H); Section XI—Appendix 1; Section XI—Appendix 2; Section XII—Involvement; Section XIII—Analysis of Plan Impact; Section XIV—Emission Inventory Development; Section XV—Title 19, Chapter 2 Utah Code Annotated, 1993; Section XVI—Public Notification; Section XVII—Visibility Protection; Section XVIII—Demonstration of GEP Stack Height; and Section XIX—Small Business Assistance Program.

The following table cross references the renumbered and prior numbered SIP sections. The table identifies the renumbered SIP sections we are proposing to approve as replacing the prior numbered SIP sections.

State Implementation Plan
[Table of Corresponding Sections]
Title | Renumbered SIP Section | Prior numbered SIP Section
Legal Authority | Section I | Section 1.
Review of New and Modified Air Pollution Sources | Section II | Section 2.
Source Surveillance | Section III | Section 3.
Ambient Air Monitoring Program | Section IV | Section 4.
Resources | Section V | Section 5.
Intergovernmental Cooperation | Section VI | Section 6.
Prevention of Air Pollution Emergency Episodes | Section VII | Section 7.
Prevention of Significant Deterioration | Section VIII | Section 8.
Control Measures for Area and Point Sources | Section IX | Section 9.
Sulfur Dioxide | Part B | Part B.
Carbon Monoxide | Part C | Part C.
Nitrogen Dioxide | Part E | Part E.
Lead | Part F | Part F.
Fluoride | Part G | Part G.
Mountainlands Association of Governments | XI, App. 1 | Section 9, App. A.
Wasatch Front Regional Council | XI, App. 2 | Section 9, App. B.
Involvement | Section XII | Section 10.
July 27, 1978 contract: Utah Dept. of Social Services and Mountainlands Assoc. of Govt | XII, App. 1 | Exhibit 10.1a.
July 21, 1978 contract: Utah Dept. of Social Services and Wasatch Front Regional Council | XII, App. 2 | Exhibit 10.1b.
Analysis of Plan Impact | Section XIII | Section 11.
Comprehensive Emission Inventory | Section XIV | Section 12.
Utah Code Title 19, Chapter 2 | Section XV | Section 13.
Public Notification | Section XVI | Section 14.
Visibility Protection | Section XVII | Section 15.
Demonstration of GEP Stack Height | Section XVIII | Section 16.
Small Business Assistance Program | Section XIX | Section 17.

B. Category 2

Category 2 consists of sections that we are proposing to take no action on because the sections have never been approved into the SIP or the sections have been superceded by later submittals that EPA has already approved into the SIP.

1. Section XX—Committal SIP

Section XX has never been approved into the SIP. Section XX committed the State to adopt certain measures to control ozone, but the committal SIP is irrelevant since the State subsequently submitted the Utah Ozone Maintenance Plan and the EPA approved it at (July 17, 1997, 62 FR 38213). Additionally, on June 17, 1998, the State submitted a SIP revision requesting the repeal of the Committal SIP. In a Federal Register notice, the EPA states that it will not take any action on repeal of the Committal SIP since it was never approved into the SIP (May 20, 2002, 67 FR 35442).

2. Sections That Have Been Superceded

Since the State's June 27, 1994 submittal, the State has made changes to portions of the SIP which EPA has approved. Since we have already approved these provisions, the approved sections supercede the June 27, 1994 submittal. The sections that we are proposing to take no action on because they supercede the June 27, 1994 submittal and have already been approved into the SIP are Section IX, Part D (approved on July 17, 1997, 62 FR 38213); Section X (approved on July 17, 1997, 62 FR 38213 and September 12, 2002, 67 FR 57744); and Section XI (approved on June 14, 2000, 65 FR 37286). However, we are approving Appendix 1 and Appendix 2 for Section XI, as stated above.

C. Category 3

Category 3 consists of those sections that we will act on at a later date.

1. January 27, 1994 Submittal

EPA will be acting on Section IX, Parts A and H at a later time due to the fact that there have been submittals that supercede these parts. EPA will act on Section IX, Parts A and H when it acts on the subsequent submittals related to these parts.¹

¹ The January 27, 1994 submittal contain references to Section IX Part A and Section IX Part H. We are not acting on Section IX Part A or Section IX Part H at this time. We are interpreting that when the State refers to Section IX Part A in its SIP, it is referring to Section 9.A of the prior numbered SIP, and when the State refers to Section IX Part H in its SIP, it is referring to Section 9.A, Appendix A, A1 and A2 of the prior numbered SIP, except for parts of Section IX, Part A and Part H that were approved into the SIP subsequent to the January 27, 1994 submittal (see 67 FR 78181, December 23, 2002).

2. April 28, 2000 Submittal

The April 28, 2000 submittal contains non-substantive changes to Section IX, Parts A and H. Since we are not acting on Section IX, Parts A and H in this notice, we will act on the April 28, 2000 non-substantive changes to Section IX, Parts A and H at a later date. The April 28, 2000 submittal also contains revisions to Utah's rules for definitions and inventories which we will be acting on in a separate action.

3. December 31, 2002 Submittal

The December 31, 2002 submittal contains non-substantive changes to Section IX, Parts A and H. Since we are not acting on Section IX, Parts A and H in this action, we will act on the December 31, 2002 non-substantive changes to Section IX, Parts A and H at a later date. The December 31, 2002 submittal also contains non-substantive changes to Section IX, Parts C.1-C.6. The non-substantive changes to Section IX, Parts C.1-C.6 are based on SIP changes that the EPA has not approved. We are proposing to act on the non-substantive changes to Section IX, Parts C.1-C.6 at a later time.

D. Category—Other

1. December 31, 2002 Submittal

We are proposing to approve the non-substantive changes contained in the December 31, 2002 submittal to Section IX, Part C.7 and C.8, Section IX, Part D, Section XXI and Section XXII. SIP Section IX, Part C.7 and Part C.8, Section IX, Part D, Section XXI and Section XXII were not part of the January 27, 1994 submittal but were new sections adopted and approved subsequent to the January 27, 1994 submittal. These changes differ from the sections in I.B.2 of this notice that we are proposing to take no action on. Sections in I.B.2 were included as part of the January 27, 1994 submittal, but were replaced by subsequent approved SIP submittals.

II. Proposed Action

Based on the June 27, 1994, April 28, 2000 and December 31, 2002 submittals, we are proposing to approve the following sections of the Utah SIP because they have only been renumbered and contain no substantive changes to the text of the rule. We are proposing that the following renumbered SIP sections replace the prior numbered SIP sections in the federally approved SIP along with any non-substantive changes: Section I, Section II, Section III, Section IV, Section V and Section VI, effective 11/12/93; Section VII, effective 11/12/93, except VII.D, effective January 1, 2003; Section VIII, effective January 1, 2003; Section IX, Part B, effective 11/12/93, except the title and IX.B.3.d, effective 2/25/2000, and IX.B.3.a, IX.B.3.e, and IX.B.4, effective January 1, 2003; Section IX, Part C, effective 11/12/93, except the title, effective 2/25/2000; Section IX, Parts E, F and G, effective 11/12/93, except the titles, effective 2/25/2000; Section XI, Appendix 1 and Appendix 2, effective 11/12/93; Section XII and Section XIII, effective 11/12/93; Section XIV, effective 11/12/93, except Table XIV.9, effective 2/25/2000; Section XV and Section XVI, effective 11/12/93; Section XVII, effective 11/12/93, except XVII.A, XVII.D and XVII.E, effective 2/25/2000; Section XVIII, effective 11/12/93, except XVIII.B, effective 2/25/2000; and Section XIX, effective 11/12/93.

We are also proposing to approve non-substantive changes to Section IX, Part C.7 and C.8, Section IX, Part D, Section XXI and Section XXII, effective January 1, 2003.

In addition, we are taking no action on certain portions of the submittals because they have never been part of the SIP or they have been superceded by other submittals approved by the EPA into the SIP. The portions of the submittals that we are taking no action on are Section XX, Section IX, Part D, Section X and Section XI.

Also, we will propose to take action on portions of the submittals in separate notices. We propose to take action on Section IX, Part A and Part H and non-substantive changes to Section IX, Parts C.1-C.6 in separate notices.

EPA is soliciting public comments on the issues discussed in this document or on other relevant matters. These comments will be considered before taking final action. Interested parties may participate in the Federal rulemaking procedure by submitting written comments to the EPA Regional office listed in the ADDRESSES section of this document.

III. Statutory and Executive Order Review

Under Executive Order 12866 (58 FR 51735, October 4, 1993), this proposed action is not a “significant regulatory action” and therefore is not subject to review by the Office of Management and Budget. For this reason, this action is also not subject to Executive Order 13211, “Actions Concerning Regulations That Significantly Affect Energy Supply, Distribution, or Use” (66 FR 28355, May 22, 2001). This proposed action merely proposes to approve state law as meeting Federal requirements and imposes no additional requirements beyond those imposed by state law. Accordingly, the Administrator certifies that this proposed rule will not have a significant economic impact on a substantial number of small entities under the Regulatory Flexibility Act (5 U.S.C. 601 et seq.). Because this rule proposes to approve pre-existing requirements under state law and does not impose any additional enforceable duty beyond that required by state law, it does not contain any unfunded mandate or significantly or uniquely affect small governments, as described in the Unfunded Mandates Reform Act of 1995 (Public Law 104-4).

This proposed rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely proposes to approve a state rule implementing a Federal standard, and does not alter the relationship or the distribution of power and responsibilities established in the Clean Air Act. This proposed rule also is not subject to Executive Order 13045 “Protection of Children from Environmental Health Risks and Safety Risks” (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This proposed rule does not impose an information collection burden under the provisions of the Paperwork Reduction Act of 1995 (44 U.S.C. 3501 et seq.).

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Authority: 42 U.S.C. 7401 et seq.

Dated: March 13, 2003.
Kerrigan G. Clough,
Deputy Regional Administrator, Region 8.

[FR Doc. 03-7055 Filed 3-24-03; 8:45 am]

BILLING CODE 6560-50-P